FEDERAL COMMUNICATIONS COMMISSION

47 CFR Parts 1 and 90

[WT Docket No. 99-87; RM-9332; RM-9405; RM-9705; FCC 00-403]

Revised Competitive Bidding Authority; Correction

AGENCY: Federal Communications Commission.

ACTION: Final rule; correction.

SUMMARY: On January 2, 2001, (66 FR 33), the Commission published final rules in the Report and Order, which revised the rules governing which wireless telecommunications services licenses are potentially auctionable and its determinations of the appropriate licensing scheme for new and existing services. This document corrects the instructional paragraph.

DATES: Effective March 2, 2001.

FOR FURTHER INFORMATION CONTACT: Leora Hochstein or William Huber, Attorneys, Auctions and Industry Analysis Division, Wireless Telecommunications Bureau, at (202) 418-0660.

SUPPLEMENTARY INFORMATION: The Commission published a document amending part 90 in the Federal Register of January 2, 2001 (66 FR 33). This document corrects the Federal Register as it appeared. In rule FR Doc. 01-00040 published on January 2, 2001 (66 FR 33), the Commission is correcting § 90.179 to reflect the correct paragraph designation and replace text that was inadvertently omitted.

In rule FR Doc. 01-00040 published on January 2, 2001 (66 FR 33) make the following correction:

PART 90—PRIVATE LAND MOBILE RADIO SERVICES

§ 90.179 [Corrected]

1. On page 55, in the first column, instruction number 4, and the regulatory text is corrected to read as follows:

4. Section 90.179 is amended by revising paragraph (i) to read as follows:

§ 90.179 Shared use of radio stations.

* * * * *

(i) The provisions of this section do not apply to licensees authorized to provide commercial mobile radio service under this part, including licensees authorized to use channels transferred or assigned pursuant to § 90.621(e)(2).

Federal Communications Commission.
Magalie Roman Salas,
Secretary.

[FR Doc. 01-10630 Filed 4-27-01; 8:45 am]

BILLING CODE 6712-01-P